FEDERAL COMMUNICATIONS COMMISSION

[DA 15-630]

Notice of Suspension and Commencement of Proposed Debarment Proceedings; Federal Lifeline Universal Service Support Mechanism

AGENCY: Federal Communications Commission.

ACTION: Notice.

SUMMARY: The Enforcement Bureau (Bureau) gives notice of Wes Yui Chew's suspension from the federal Lifeline universal service support mechanism (Lifeline program) and the commencement of debarment proceedings against him. Suspension immediately excludes Mr. Chew from activities associated with or related to the Lifeline program pending completion of the debarment process. Mr. Chew, or any person who has an existing contract with or intends to contract with him to provide or receive services in matters arising out of activities associated with or related to the Lifeline program, may contest this suspension or its scope by filing an opposition and any relevant documentation.

DATES: Any opposition must be received within 30 days from the receipt of the suspension letter or June 18, 2015, whichever comes first. The Bureau will decide any opposition within 90 days of its receipt.

ADDRESSES: Federal Communications Commission, Enforcement Bureau, Investigations and Hearings Division, Room 4-A422, 445 12th Street SW., Washington, DC 20554.

FOR FURTHER INFORMATION CONTACT: Celia Lewis, Paralegal Specialist, Federal Communications Commission, Enforcement Bureau, Investigations and Hearings Division, Room 4-A422, 445 12th Street SW., Washington, DC 20554. Celia Lewis may be contacted by phone at (202) 418-7456 or email at Celia.Lewis@fcc.gov. If Ms. Lewis is unavailable, you may contact Mr. Kalun Lee, Deputy Chief, Investigations and Hearings Division, by telephone at (202) 418-0796 and by email at Kalun.Lee@fcc.gov.

SUPPLEMENTARY INFORMATION: The Bureau has suspension and debarment authority pursuant to 47 CFR 54.8 and 0.111(a)(14). Mr. Chew's conviction for money laundering in violation of 18 U.S.C. 1957(a), in connection with fraudulent claims against the Lifeline program, requires the Bureau to suspend him from participating in activities associated with the Lifeline program. Attached is the notice of suspension and initiation of debarment proceeding (Notice of Suspension), DA 15-630, which was mailed to Mr. Chew and released on May 26, 2015. The complete text of the Notice of Suspension is available for public inspection and copying during regular business hours at the FCC Reference Information Center, Portal II, 445 12th Street SW., Room CY-A257, Washington, DC 20554. In addition, the complete text is available on the FCC's Web site at http://www.fcc.gov.

Jeffrey J. Gee,
Chief, Investigations and Hearings Division, Enforcement Bureau, Federal Communications Commission.

May 26, 2015

DA 15-630

SENT VIA CERTIFIED MAIL, RETURN RECEIPT REQUESTED

Mr. Wes Yui Chew, c/o Daniel G. Webber, Jr., Ryan Whaley Coldiron Shandy PLLC, 119 N. Robinson Avenue, Suite 900, Oklahoma City, OK 73102.

Re: Notice of suspension and initiation of debarment proceeding, File No. EB-IHD-15-00019046.

Dear Mr. Chew:

The Federal Communications Commission (Commission) has received notice of your conviction for money laundering in violation of 18 U.S.C. 1957(a), in connection with fraudulent claims against the federal Lifeline telephone program (Lifeline program).¹ Pursuant to its rules, the Enforcement Bureau (Bureau) hereby suspends you from participating in activities associated with the Lifeline program.² The Bureau is also commencing a proceeding to debar you from future participation in the Lifeline program.³

¹ Any further reference in this letter to “your conviction” refers to your guilty plea and subsequent sentencing in United States v. Chew, Criminal Docket No. 5:14-cr-00170-D, Plea Agreement (W.D. Okla. filed June 12, 2014) (Plea Agreement). See also Lifeline & Link Up Reform & Modernization, WC Docket No. 11-42, CC Docket No. 96-45, WC Docket No. 03-109, Report and Order and Further Notice of Proposed Rulemaking, 27 FCC Rcd 6656 (2012) (Lifeline Reform Order).

² 47 CFR 54.8.

³ Id.; 47 CFR 0.111 (delegating to the Bureau authority to resolve universal service suspension and debarment proceedings). In 2007, the Commission extended the debarment rules to apply to all federal universal service support mechanisms, including Lifeline. See Comprehensive Review of the Universal Service Fund Management, Administration, & Oversight, Report and Order, 22 FCC Rcd 16372, 16410-12 (2007) (Program Management Order) (renumbering Section 54.521 of the universal service debarment rules as Section 54.8 and amending subsections (a)(1), (a)(5), (c), (d), (e)(2)(i), (e)(3), (e)(4), and (g)).

I. Notice of Suspension

Any person who has “defrauded the government or engaged in similar acts through activities associated with or related to the [Lifeline program]” may be prohibited from receiving the benefits associated with that program.⁴ The Lifeline program is a government program that provides support to eligible telecommunications carriers (ETCs) that in turn offer discounts on telephone service for eligible low-income consumers.⁵ An ETC may receive reimbursement in connection with the Lifeline program only if it certifies as part of its reimbursement request that it is in compliance with the Lifeline rules.⁶

⁴ Program Management Order, 22 FCC Rcd at 16387, para. 32. The Commission's debarment rules define a “person” as “[a]ny individual, group of individuals, corporation, partnership, association, unit of government or legal entity, however organized.” 47 CFR 54.8(a)(6).

⁵ See Lifeline Reform Order, 27 FCC Rcd at 6662-67, paras. 11-18; see also 47 CFR 54.400-54.422.

⁶ See 47 CFR 54.407(d).

Icon Telecom, Inc. (Icon) participated in the Lifeline program from July 2011 until September 2013.⁷ During that time period, you were the sole owner and president of Icon.⁸ On June 12, 2014, you pled guilty to one count of money laundering for transferring $20,455,829.10 from an Icon bank account to a personal bank account, despite knowing that Icon had thousands fewer customers than it had reported to the Commission.⁹

⁷ United States v. Chew, Criminal Docket No. 5:14-cr-00170-D, Information at 4 (W.D. Okla. filed June 3, 2014).

⁸ Id. at 1.

⁹ Id. at 7-8; Plea Agreement at 2; see also United States Attorney's Office, Western District of Oklahoma, Press Release, Icon Telecom and Its Owner Plead Guilty And Agree To Forfeit More Than $27 Million In Connection With Federal Wireless Telephone Subsidy Program, June 12, 2014, available at http://www.justice.gov/usao-wdok/pr/icon-telecom-and-its-owner-plead-guilty-and-agree-forfeit-more-27-million-connection.

Pursuant to Section 54.8(b) of the Commission's rules,¹⁰ your conviction requires the Bureau to suspend you from participating in any activities associated with or related to the Lifeline program, including receiving funds or discounted services through the Lifeline program, or consulting with, assisting, or advising applicants or service providers regarding the Lifeline program.¹¹ Your suspension becomes effective upon either your receipt of this letter or its publication in the Federal Register, whichever comes first.¹²

¹⁰ 47 CFR 54.8(a)(4); see Program Management Order, 22 FCC Rcd at 16387, para. 32.

¹¹ 47 CFR 54.8(a)(1), (d).

¹² Id. § 54.8(e)(1).

In accordance with the Commission's suspension and debarment rules, you may contest this suspension or its scope by filing arguments, with any relevant documents, within thirty (30) calendar days of your receipt of this letter or its publication in the Federal Register, whichever comes first.¹³ Such requests, however, will not ordinarily be granted.¹⁴ The Bureau may reverse or limit the scope of a suspension only upon a finding of extraordinary circumstances.¹⁵ The Bureau will decide any request to reverse or modify a suspension within ninety (90) calendar days of its receipt of such request.¹⁶

¹³ Id. § 54.8(e)(4).

¹⁴ Id.

¹⁵ Id. § 54.8(f).

¹⁶ Id. §§ 54.8(e)(5), (f).

II. Initiation of Debarment Proceedings

In addition to your immediate suspension from the Lifeline program, your conviction is cause for debarment as defined in Section 54.8(c) of the Commission's rules.¹⁷ Therefore, pursuant to Section 54.8(b) of the Commission's rules, your conviction requires the Bureau to commence debarment proceedings against you.¹⁸

¹⁷ “Causes for suspension and debarment are conviction of or civil judgment for attempt or commission of criminal fraud, theft, embezzlement, forgery, bribery, falsification or destruction of records, making false statements, receiving stolen property, making false claims, obstruction of justice and other fraud or criminal offense arising out of activities associated with or related to the schools and libraries support mechanism, the high-cost support mechanism, the rural health care support mechanism, and the low-income support mechanism.” 47 CFR 54.8(c). Associated activities “include the receipt of funds or discounted services through [the federal universal service] support mechanisms, or consulting with, assisting, or advising applicants or service providers regarding [the federal universal service] support mechanisms.” Id. § 54.8(a)(1).

¹⁸ Id. § 54.8(b).

As with the suspension process, you may contest the proposed debarment or its scope by filing arguments and any relevant documentation within thirty (30) calendar days of receipt of this letter or its publication in the Federal Register, whichever comes first.¹⁹ The Bureau, in the absence of extraordinary circumstances, will notify you of its decision to debar within ninety (90) calendar days of receiving any information you may have filed.²⁰ If the Bureau decides to debar you, its decision will become effective upon either your receipt of a debarment notice or publication of the decision in the Federal Register, whichever comes first.²¹

¹⁹ Id. § 54.8(e)(3).

²⁰ Id. § 54.8(e)(5).

²¹ Id. The Commission may reverse a debarment, or may limit the scope or period of debarment, upon a finding of extraordinary circumstances, following the filing of a petition by you or an interested party or upon motion by the Commission. Id. § 54.8(f).

If and when your debarment becomes effective, you will be prohibited from participating in activities associated with or related to the Lifeline program for three years from the date of debarment.²² The Bureau may set a longer debarment period or extend an existing debarment period if necessary to protect the public interest.²³

²² Id. § 54.8(d), (g).

²³ Id. § 54.8(g).

Please direct any response, if sent by messenger or hand delivery, to Marlene H. Dortch, Secretary, Federal Communications Commission, 445 12th Street SW., Room TW-A325, Washington, DC 20554 and to the attention of Celia Lewis, Paralegal Specialist, Investigations and Hearings Division, Enforcement Bureau, Room 4-A422, Federal Communications Commission, 445 12th Street SW., Washington, DC 20554 with a copy to Kalun Lee, Deputy Chief, Investigations and Hearings Division, Enforcement Bureau, Room 4-C237, Federal Communications Commission, 445 12th Street SW., Washington, DC 20554. All messenger or hand delivery filings must be submitted without envelopes.²⁴ If sent by commercial overnight mail (other than U.S. Postal Service (USPS) Express Mail and Priority Mail), the response must be sent to the Federal Communications Commission, 9300 East Hampton Drive, Capitol Heights, Maryland 20743. If sent by USPS First Class, Express Mail, or Priority Mail, the response should be addressed to Celia Lewis, Paralegal Specialist, Investigations and Hearings Division, Enforcement Bureau, Federal Communications Commission, 445 12th Street SW., Room 4-A422, Washington, DC 20554, with a copy to Kalun Lee, Deputy Chief, Investigations and Hearings Division, Enforcement Bureau, Federal Communications Commission, 445 12th Street SW., Room 4-C237, Washington, DC 20554. You shall also transmit a copy of your response via email to Celia Lewis, Celia.Lewis@fcc.gov, and Kalun Lee, Kalun.Lee@fcc.gov.

²⁴ See FCC Public Notice, DA 09-2529 for further filing instructions (rel. Dec. 3, 2009).

If you have any questions, please contact Ms. Lewis via U.S. postal mail, email, or by telephone at (202) 418-7456. If Ms. Lewis is unavailable, you may contact Kalun Lee, Deputy Chief, Investigations and Hearings Division, by telephone at (202) 418-0796 or at the email address noted above.

Sincerely yours,

Jeffrey J. Gee, Chief, Investigations and Hearings Division, Enforcement Bureau.

cc: Johnnay Schrieber, Universal Service Administrative Company (via email), Rashann Duvall, Universal Service Administrative Company (via email), Chris M. Stevens, United States Attorney's Office, Western District of Oklahoma (via email), Scott E. Williams, United States Attorney's Office, Western District of Oklahoma (via email).

[FR Doc. 2015-15065 Filed 6-17-15; 8:45 am]

BILLING CODE 6712-01-P